DEPARTMENT OF TRANSPORTATION

Federal Transit Administration

[FTA Docket No. 2009-0029]

Notice of Request for Reinstatement of Information Collections

AGENCY: Federal Transit Administration, DOT.

ACTION: Notice of request for comments.

SUMMARY: In accordance with the Paperwork Reduction Act of 1995, this notice announces the intention of the Federal Transit Administration (FTA) to request the Office of Management and Budget (OMB) to approve the reinstatement of the following information collections:

(1) Bus Testing Program

(2) Transit Research, Development, Demonstration and Deployment Projects

DATES: Comments must be submitted before July 31, 2009.

ADDRESSES: To ensure that your comments are not entered more than once into the docket, submit comments identified by the docket number by only one of the following methods:

1. Web site: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: 202-493-2251.

3. Mail: U.S. Department of Transportation, 1200 New Jersey Avenue, SE., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to http://www.regulations.gov. You may review DOT's complete Privacy Act Statement in the Federal Register published April 11, 2000, (65 FR 19477), or you may visit http://www.regulations.gov. Docket: For access to the docket to read background documents and comments received, go to www.regulations.gov at any time. Background documents and comments received may also be viewed at the U.S. Department of Transportation, 1200 New Jersey Avenue, SE., Docket Operations, M-30, West Building, Ground Floor, Room W12-140, Washington, DC 20590-0001 between 9 a.m. and 5 p.m., Monday through Friday, except federal holidays.

FOR FURTHER INFORMATION CONTACT:

—Mr. Marcel Belanger, FTA Office of Research, Demonstration and Innovation, (202) 366-0725, or e-mail: marcel.belanger@dot.gov (for the Bus Testing Program).

—Mr. Bruce Robinson, FTA Office of Research, Demonstration and Innovation, (202) 366-4052, or e-mail: bruce.robinson@dot.gov (for Transit Research, Development, Demonstration and Deployment Projects).

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Bus Testing Program (OMB Number: 2132-0550)

Background: 49 U.S.C. Section 5323(c) provides that no federal funds appropriated or made available after September 30, 1989, may be obligated or expended for the acquisition of a new bus model (including any model using alternative fuels) unless the bus has been tested at the Bus Testing Center (Center in Altoona, Pennsylvania. 49 U.S.C. Section 5318(a) further specifies that each new bus model is to be tested for maintainability, reliability, safety, performance (including braking performance), structural integrity, fuel economy, emissions and noise.

The operator of the Bus Testing Center, the Thomas D. Larson Pennsylvania Transportation Institute (LTI), has entered into a cooperative agreement with FTA. LTI operates and maintains the Center and establishes and collects fees for the testing of the vehicles at the facility. Upon completion of the testing of the vehicles at the Center, a test report is provided to the manufacturer of the new bus model. The bus manufacturer certifies to an FTA grantee that the bus the grantee is purchasing has been tested at the Center. Also, grantees that are planning to purchase a bus use this report to assist them in making their purchasing decisions. LTI maintains a reference file for all the test reports which are made available to the public.

Respondents: Bus Manufacturers.

Estimated Annual Burden on Respondents: 30 testing determinations at 3 hours each; 18 tests at 3 hours each and 520 requirements at 0.5 hours each.

Estimated Total Annual Burden: 404 hours.

Frequency: Annual.

Title: 49 U.S.C. Section 5312(a) Transit Research, Development, Demonstration and Deployment Projects.

Background: 49 U.S.C. Section 5312(a) authorizes the Secretary of Transportation to make grants or contracts for research, development, demonstration and deployment projects and evaluation of technology of national significance to public transportation that the Secretary determines will improve mass transportation service or help transportation service meet the total urban transportation needs at a minimum cost. In carrying out the provisions of this section, the Secretary is also authorized to request and receive appropriate information from any source. As an example, FTA's United We Ride Program is funded under the Transit Research Program. Research for the United We Ride Program is being conducted to gather information on how the objectives of Executive Order 13330 on Human Services Transportation Coordination are being achieved.

The information collected is submitted as part of the application for grants and cooperative agreements and is used to determine eligibility of applicants. Collection of this information also provides documentation that the applicants and recipients are meeting program objectives and are complying with FTA Circular 6100.1B and other federal requirements.

Respondents: FTA grant recipients.

Estimated Annual Burden on Respondents: 56.2 hours for each of the 200 respondents.

Estimated Total Annual Burden: 11,240 hours.

Frequency: Annual.

Issued: May 26, 2009.
Ann M. Linnertz,
Associate Administrator for Administration.

[FR Doc. E9-12605 Filed 5-29-09; 8:45 am]

BILLING CODE 4910-57-P